DEPARTMENT OF HEALTH AND HUMAN SERVICES

Centers for Medicare & Medicaid Services

[Document Identifier: CMS-R-244, CMS-18F5, CMS-417, and CMS-724]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: The Medicare and Medicaid Programs: Programs of All-inclusive Care for the Elderly (PACE); Form Number: CMS-R-244 (OMB#: 0938-0790); Use: PACE organizations must demonstrate their ability to provide quality community-based care for the frail elderly who meet their State's nursing home eligibility standards using capitated payments from Medicare and the State. PACE programs must provide all Medicare and Medicaid covered services including hospital, nursing home, home health, and other specialized services. This collection is necessary to ensure that only appropriate organizations are selected to become PACE organizations and that CMS has the information necessary to monitor the care they provide; Frequency: Reporting—Once and On occasion; Affected Public: Not-for-profit institutions and State, Local, or Tribal Governments; Number of Respondents: 54; Total Annual Responses: 108; Total Annual Hours: 44131.50.

2. Type of Information Collection Request: Extension of a currently approved collection; Title of Information Collection: Application for Hospital Insurance Benefits; Form Number: CMS-18F5 (OMB#: 0938-0251); Use: The CMS-18F5 form is used to establish entitlement to and enrollment in Part A of Medicare for beneficiaries who are not automatically entitled to Medicare Part A under Title XVIII of the Social Security Act and must file an application. Sections 226(a), 227 and 1818A of the Social Security Act and sections 42 CFR 406.10, 406.11 and 406.20 outline the requirements for entitlement to Medicare hospital insurance (Part A). Section 42 CFR 406.6 provides information about who needs to file an application for Part A and who does not. Section 42 CFR 406.7 lists the CMS-18F5 form as the application to be used by individuals applying for Part A of Medicare. The CMS-18F5 form was designed to capture all the information needed to make a determination of an individual's entitlement to hospital insurance (Part A); Frequency: Reporting—Once; Affected Public: Individuals or households; Number of Respondents: 50,000; Total Annual Responses: 50,000; Total Annual Hours: 12,495.

3. Type of Information Collection Request: Extension of a currently approved collection; Title of Information Collection: Hospice Request for Certification in the Medicare Program; Form Number: CMS-417 (OMB#: 0938-0313); Use: The Hospice Request for Certification Form is the identification and screening form used to initiate the certification process and to determine if the provider has sufficient personnel to participate in the Medicare program; Frequency: Reporting—Yearly; Affected Public: Private Sector: Business or other for-profits; Number of Respondents: 2,286; Total Annual Responses: 2,286; Total Annual Hours: 572.

4. Type of Information Collection Request: Extension of a currently approved collection; Title of Information Collection: Psychiatric Hospital Survey Data and Supporting Regulations at 42 CFR 482.60, 482.61, and 482.62; Form Number: CMS-724 (OMB#: 0938-0378); Use: The Medicare/Medicaid Psychiatric Hospital Survey is used to collect data that is not collected elsewhere and assists CMS in program planning and evaluation of survey needs. In addition, the survey assists CMS in maintaining an accurate data base on providers participating in the Medicare psychiatric hospital program; Frequency: Reporting—Yearly; Affected Public: Private Sector: Business or other for-profits; Number of Respondents: 420; Total Annual Responses: 200; Total Annual Hours: 100.

To obtain copies of the supporting statement and any related forms for the proposed paperwork collections referenced above, access CMS' Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on July 3, 2007.

CMS, Office of Strategic Operations and Regulatory Affairs, Division of Regulations Development—C, Attention: Bonnie L Harkless, Room C4-26-05, 7500 Security Boulevard, Baltimore, Maryland 21244-1850.

Dated: April 27, 2007.
Michelle Shortt,
Director, Regulations Development Group, Office of Strategic Operations and Regulatory Affairs.

[FR Doc. E7-8423 Filed 5-3-07; 8:45 am]

BILLING CODE 4120-01-P